DEPARTMENT OF DEFENSE

GENERAL SERVICES ADMINISTRATION

NATIONAL AERONAUTICS AND SPACE ADMINISTRATION

48 CFR Parts 19 and 35

[FAR Case 2012-015, Docket No. FAR-2012-0015, Sequence No. 1]

RIN 9000-AM33

Federal Acquisition Regulation: Small Business Set Asides for Research and Development Contracts

AGENCY: Department of Defense (DoD), General Services Administration (GSA), and National Aeronautics and Space Administration (NASA).

ACTION: Proposed rule; withdrawal.

SUMMARY: DoD, GSA, and NASA are withdrawing the proposed rule to amend the Federal Acquisition Regulation (FAR) titled: Small Business Set Asides for Research and Development Contracts. The decision not to proceed with a final rule was made because of the passage of time since the proposed rule was issued, and input from respondents indicating that the proposed changes were, on balance, unnecessary or unhelpful. Accordingly, this proposed rule is withdrawn, and the FAR case is closed.

DATES: The proposed rule published on August 10, 2012, at 77 FR 47797 is withdrawn as of March 19, 2021.

FOR FURTHER INFORMATION CONTACT: Malissa Jones, Procurement Analyst, at 703-605-2815 or malissa.jones@gsa.gov. Please cite “FAR Case 2012-015”.

SUPPLEMENTARY INFORMATION: On August 10, 2012, DoD, GSA, and NASA proposed to amend the FAR to clarify that contracting officers shall set aside acquisitions for research and development in excess of the simplified acquisition threshold when the market research conducted in accordance with FAR part 10 indicates there are small businesses capable of providing the best scientific and technological approaches (77 FR 47797). The proposed rule was in response to a request from the Small Business Administration to review whether the language at FAR 19.502-2(b)(2) creates an additional or unique condition that must be met before a contracting officer can proceed with a small business set-aside for research and development.

A decision was made not to proceed with finalization of the proposed rule. Because of the passage of time, and input from respondents indicating that the proposed changes were, on balance, unnecessary or unhelpful, the FAR Council has concluded that consideration of any future amendments to the FAR related to small business set-asides for research and development should be accomplished under a new FAR case. Accordingly, the proposed rule published at 77 FR 47797 on August 10, 2012, is withdrawn and FAR Case 2012-015 is closed.

List of Subjects in 48 CFR Parts 19 and 35

Government procurement.

William F. Clark,
Director, Office of Government-wide Acquisition Policy, Office of Acquisition Policy, Office of Government-wide Policy.

[FR Doc. 2021-05659 Filed 3-18-21; 8:45 am]

BILLING CODE 6820-EP-P